POSTAL SERVICE

39 CFR Part 111

Bound Printed Matter: Flat-Size Mail Co-Packaging and Co-Sacking

AGENCY: Postal Service.

ACTION: Final rule.

SUMMARY: In this final rule, the Postal Service adopts revisions to the Domestic Mail Manual (DMM) that will provide new mail preparation standards for the co-packaging and co-sacking of flat-size Bound Printed Matter (BPM) mailpieces.

Co-packaging is an alternate preparation option that allows the combining of Presorted pieces and barcoded pieces within the same package. Co-sacking is a preparation method that allows under specific circumstances the combining of packages of Presorted rate pieces, packages of barcoded pieces, and co-packaged pieces, within the same sack.

Effective April 3, 2003, mailers may begin using the co-packaging standards for BPM flats. Although co-packaging is optional, if a mailer chooses to co-package, then the co-packaged pieces must also be co-sacked. The required use of the co-sacking preparation standards for pieces that are not co-packaged becomes mandatory on September 1, 2003. Regardless of the date presented, all mailings that are co-packaged must also be co-sacked.

EFFECTIVE DATE: April 3, 2003.

FOR FURTHER INFORMATION CONTACT: Jane Stefaniak at (703) 292-3548, Mailing Standards, United States Postal Service.

SUPPLEMENTARY INFORMATION: In a proposed rule published in the Federal Register on November 19, 2002 (67 FR 69698-69702), the Postal Service proposed to extend the mail preparation standards for co-packaging and co-sacking in DMM M900 to include flat-size BPM mailpieces that are compatible with processing on the automated flat sorting machine (AFSM) 100. Also included as part of the November 19, 2002, proposed rule was a proposal to change the minimum weight for Presorted rate BPM flats claimed at the destination delivery unit (DDU) rates from “more than 1 pound” to “more than 20 ounces.” In the November 19, 2002, proposed rule, the Postal Service solicited written comments from interested parties. However, no written comments were received. The Postal Service is therefore adopting the content of the proposed rule with the following two changes:

1. The mandatory effective date for the use of the new co-sacking standards for flat-size BPM pieces is September 1, 2003, rather than June 1, 2003, as stated in the proposed rule.

2. The proposal to increase the minimum weight for Presorted rate BPM flats claimed at the DDU rates will not be adopted at this time.

Background

Through several previous rulemakings published in the Federal Register (65 FR 52479-52528, 66 FR 28659-28666, and 66 FR 58944-58952), the Postal Service has established mail preparation standards in DMM M900 for co-packaging and co-traying flat-size First-Class Mail, and for co-packaging and co-sacking nonletter-size Periodicals and flat-size Standard Mail. Extending these requirements to allow the co-packaging and co-sacking of flat-size BPM mailpieces that are compatible with processing on the AFSM 100 is reasonable and in the best interests of both mailers and the Postal Service.

Presorted rate BPM flats (no barcode required) and Presorted rate BPM flats that bear a ZIP+4 or delivery point barcode and claim the barcoded discount are usually both processed by the Postal Service within the same operation. For this reason, allowing packages of flat-size barcoded and nonbarcoded pieces to be combined within the same sack (i.e., co-sacking) can provide operational efficiencies that could reduce costs. Additionally, the need for the Postal Service to receive flat-size barcoded and nonbarcoded pieces in segregated packages no longer exists due to technological advances, such as the optical character reader (OCR) and image lift capabilities of the AFSM 100. Therefore, it would not be operationally beneficial to continue to require the separate preparation of Presorted rate BPM flats that qualify for and claim the barcoded discount and those that do not qualify for the barcoded discount. Continuing to segregate barcoded and nonbarcoded flats would result in more packages and sacks, reduce the average depth of sort, and cause additional workhours for the Postal Service associated with sorting, opening, and preparing flats for processing.

Under the new co-packaging standards for flat-size BPM mailpieces, mailers will have the option to co-package (i.e., sort into the same package) Presorted rate BPM flat-size pieces qualifying for the barcoded discount and Presorted rate BPM flat-size pieces not qualifying for the barcoded discount. Regardless of the date presented for mailing, co-packaged pieces must be co-sacked under DMM M910. Effective September 1, 2003, the new co-sacking standards for flat-size BPM mailpieces will require that mailers co-sack (i.e., sort into the same sack) packages of Presorted rate pieces qualifying for and claiming the barcoded discount with packages of Presorted rate pieces not qualifying for the barcoded discount. The containerization methods permitted for First-Class Mail, Periodicals, and Standard Mail in current DMM M920, M930, and M940 will not be available for BPM.

Co-Packaging Standards (Optional)

The new standards for the optional co-packaging of BPM flats include the following:

• All pieces must weigh 20 ounces or less and meet the AFSM 100 criteria for automation-compatible flat-size mail in DMM C820.

• A separate minimum of 300 Presorted rate pieces qualifying for and claiming the barcoded discount and a separate minimum of 300 Presorted rate pieces (not qualifying for the barcoded discount) are required. The combined total number of pieces qualifying for and claiming the barcoded discount and the Presorted rate must be used to meet the minimum volume requirements for packages and sacks.

• Each piece in the Presorted rate mailing qualifying for and claiming the barcoded discount must bear a correct and readable ZIP+4 or delivery point barcode (DPBC) under DMM C840. Each piece in the Presorted rate mailing must bear a correct and readable 5-digit barcode under DMM C840.

• Presorted rate pieces qualifying for and claiming the barcoded discount must be sorted together with the Presorted rate pieces, but only one physical package for each logical presort destination is permitted to contain both pieces claiming the barcoded discount and pieces not claiming the discount, unless presented using an approved manifest mailing system under DMM P910.

• Co-packaged pieces must also be co-sacked under DMM M910.

Co-Sacking Standards (Required September 1, 2003)

The new standards for the required co-sacking of BPM flats include the following:

• Packages prepared as part of the Presorted rate mailing qualifying for and claiming the barcoded discount and packages prepared as part of the Presorted rate mailing (not qualifying for the barcoded discount) must be co-sacked, effective September 1, 2003. However, mailers who choose to use the co-packaging standards prior to September 1, 2003, will be required to co-sack.

• Packages of flats qualifying for and claiming the barcoded discount that are co-sacked with packages of Presorted rate flats must be part of the same mailing job.

• Both the Presorted rate mailing qualifying for and claiming the barcoded discount and the Presorted rate mailing must separately meet the applicable rate eligibility and volume requirements.

• Packages that are co-sacked under DMM M910 are not required to be co-packaged.

Documentation Requirements

Standardized documentation as detailed in DMM P012 is required for mailings prepared under the new standards for co-packaging and co-sacking. The following applies:

• Documentation for a co-packaged mailing must indicate by zone (when applicable) for each package sortation level, the number of Presorted rate pieces qualifying for the barcoded discount and the number of Presorted rate pieces (not claiming the barcoded discount) that are contained in each package.

• Documentation for a co-sacked mailing must indicate by zone (when applicable) for each sack sortation level, the number of Presorted rate pieces qualifying for the barcoded discount and the number of Presorted rate pieces (not claiming the barcoded discount) that are contained in each sack.

Effective Dates

Effective April 3, 2003, mailers may begin using the co-packaging standards for BPM flats. The standards for co-packaging are optional. However, if a mailer chooses to co-package under DMM M950, then the co-packaged pieces must be co-sacked under DMM M910. The required use of the co-sacking preparation standards (for pieces that are not co-packaged) becomes mandatory on September 1, 2003. Regardless of the date presented, all mailings that are co-packaged under DMM M950 must be co-sacked under DMM M910.

Based on the reasons presented in the proposed rule and those noted above, and in consideration that no public comments were received, the Postal Service adopts the following changes to the Domestic Mail Manual, which is incorporated by reference in the Code of Federal Regulations. See 39 CFR 111.

List of Subjects in 39 CFR Part 111

Administrative Practice and Procedure, Postal Service.

PART 111—[AMENDED]

1. The authority citation for 39 CFR part 111 continues to read as follows:

Authority: 5 U.S.C. 552(a); 39 U.S.C. 101, 401, 403, 404, 414, 416, 3001-3011, 3201-3219, 3403-3406, 3621, 3626, 5001.

2. Amend the following sections of the Domestic Mail Manual (DMM) as set forth below:

Domestic Mail Manual (DMM)

* * * * *

M MAIL PREPARATION AND SORTATION

M000 General Preparation Standards

M010 Mailpieces

M011 Basic Standards

1.0 TERMS AND CONDITIONS

* * * * *

1.3 Preparation Instructions

For purposes of preparing mail:

* * * * *

[Revise item ae to read as follows:]

ae. Co-packaging is an alternate preparation method available under M950 for First-Class Mail, Periodicals, and Standard Mail that allows the combining of flat-size automation rate and Presorted rate pieces within the same package under the single minimum package size requirement. Co-packaging is also available for combining within the same package flat-size Bound Printed Matter Presorted rate pieces qualifying for and claiming the barcoded discount and Presorted rate pieces not qualifying for the barcoded discount. Regardless of the class of mail, pieces may not be combined in more than one physical package for each logical presort destination unless presented using an approved manifest mailing system under P910.

1.4 Mailing

Mailings are defined as:

* * * * *

[Revise the first paragraph of item e by adding references to the advanced preparation options for flat-size Bound Printed Matter in M900 to read as follows (the remainder of 1.4 is unchanged):]

e. Package Services. Except for single-piece rate pieces not otherwise subject to a minimum mailing requirement that are presented under an approved manifest mailing system under P910, the types of Package Services listed below may not be part of the same mailing even if in the same processing category. See M910 and M950 for the advanced preparation options available for flat-size Bound Printed Matter. * * *

* * * * *

M030 Containers

* * * * *

M032 Barcoded Labels

1.0 BASIC STANDARDS—TRAY AND SACK LABELS

* * * * *

Exhibit 1.3a 3-Digit Content Identifier Numbers

[Revise Exhibit 1.3a by adding new categories and content identifier numbers for co-sacked Bound Printed Matter pieces to read as follows:]

Package Services
* * * * * * *
BPM Flats—Co-Sacked Barcoded and Presorted:
5-digits sacks | 648 PSVC FLTS 5D BC/NBC
3-digits sacks | 661 PSVC FLTS 3D BC/NBC
SCF sacks | 667 PSVC FLTS SCF BC/NBC
ADC sacks | 668 PSVC FLTS ADC BC/NBC
Mixed ADC sacks | 669 PSVC FLTS BC/NBC WKG

* * * * *

M700 Package Services

* * * * *

M720 Bound Printed Matter

* * * * *

M722 Presorted Bound Printed Matter

1.0 BASIC STANDARDS

* * * * *

[Add new 1.5 to read as follows:]

1.5 Co-Sacking Flats With Barcoded Mail

The following standards apply:

a. If the mailing job contains a carrier route mailing, a Presorted rate mailing qualifying for and claiming the barcoded discount, and a Presorted rate mailing, the job must be prepared as follows:

(1) Prior to September 1, 2003, the carrier route mailing must be prepared under M723, the Presorted rate mailing qualifying for and claiming the barcoded discount must be prepared under M820, and the Presorted rate mailing must be prepared under M722.

(2) Effective September 1, 2003, the carrier route mailing must be prepared under M723, and the Presorted rate mailing qualifying for and claiming the barcoded discount and the Presorted rate mailing must be prepared under the co-sacking standards in M910. Presorted rate pieces qualifying for and claiming the barcoded discount may be co-packaged with Presorted rate pieces under M950. Regardless of the date presented for mailing, co-packaged pieces must be co-sacked under M910.

b. If the mailing job contains only a Presorted rate mailing qualifying for and claiming the barcoded discount and a Presorted rate mailing, the job must be prepared as follows:

(1) Prior to September 1, 2003, the Presorted rate mailing qualifying for and claiming the barcoded discount must be prepared under M820, and the Presorted rate mailing must be prepared under M722.

(2) Effective September 1, 2003, the mailing job must be prepared under the co-sacking standards in M910. Presorted rate pieces qualifying for and claiming the barcoded discount may be co-packaged with Presorted rate pieces under M950. Regardless of the date presented for mailing, co-packaged pieces must be co-sacked under M910.

c. If the mailing job contains only a carrier route mailing and a Presorted rate mailing qualifying for and claiming the barcoded discount, the job must be sacked separately under the applicable standards in M723 and M820.

d. If the mailing job contains only a carrier route mailing and a Presorted rate mailing, each mailing must be sacked separately under the applicable standards M722 and M723.

* * * * *

M800 All Automation Mail

* * * * *

M820 Flat-Size Mail

1.0 BASIC STANDARDS

* * * * *

1.10 Co-Traying, Co-Sacking, and Co-Packaging With Presorted Rate Mail

The following standards apply:

* * * * *

[Add new item d for Bound Printed Matter to read as follows:]

d. Bound Printed Matter:

(1) If the mailing job contains a carrier route mailing, a Presorted rate mailing qualifying for and claiming the barcoded discount, and a Presorted rate mailing, the job must be prepared as follows:

(a) Prior to September 1, 2003, the carrier route mailing must be prepared under M723, the Presorted rate mailing qualifying for the barcoded discount must be prepared under M820, and the Presorted rate mailing must be prepared under M722.

(b) Effective September 1, 2003, the carrier route mailing must be prepared under M723, and the Presorted rate mailing qualifying for the barcoded discount and the Presorted rate mailing must be prepared under the co-sacking standards in M910. Presorted rate pieces qualifying for the barcoded discount may be co-packaged with Presorted rate pieces under M950. Regardless of the date presented for mailing, co-packaged pieces must be co-sacked under M910.

(2) If the mailing job contains only a Presorted rate mailing qualifying for and claiming the barcoded discount and a Presorted rate mailing, the job must be prepared as follows:

(a) Prior to September 1, 2003, the Presorted rate mailing qualifying for and claiming the barcoded discount must be prepared under M820 and the Presorted rate mailing must be prepared under M722.

(b) Effective September 1, 2003, the Presorted rate mailing qualifying for and claiming the barcoded discount and the Presorted rate mailing must be prepared under the co-sacking standards in M910. Presorted rate pieces qualifying for and claiming the barcoded discount may be co-packaged with Presorted rate pieces under M950. Regardless of the date presented for mailing, co-packaged pieces must be co-sacked under M910.

(3) If the mailing job contains only a carrier route mailing and a Presorted rate mailing qualifying for and claiming the barcoded discount, each mailing must be prepared separately under the applicable standards in M723 and M820.

* * * * *

6.0 BOUND PRINTED MATTER

* * * * *

6.2 Sack Preparation and Labeling

[Revise 6.2 to read as follows:]

Preparation sequence, sack size, and labeling:

a. 5-digit scheme (optional, containing 5-digit scheme packages only); minimum 20 addressed pieces; labeling:

(1) Line 1: L007.

(2) Line 2: “PSVC FLTS 5D SCH BC.”

b. 5-digit (required); minimum 20 addressed pieces; labeling:

(1) Line 1: city, state, and 5-digit ZIP Code on mail, preceded for military mail by correct prefix under M031.

(2) Line 2: “PSVC FLTS 5D BC.”

c. 3-digit (required, except for optional packages with 3-digit ZIP Code prefixes indicated by an “N” in L002, when optional SCF sacks are prepared); minimum 20 addressed pieces; labeling:

(1) Line 1: L002, Column A.

(2) Line 2: “PSVC FLTS 3D BC.”

d. SCF (optional); minimum 20 addressed pieces; labeling:

(1) Line 1: L005.

(2) Line 2: “PSVC FLTS SCF BC.”

e. ADC (required); minimum 20 addressed pieces; labeling:

(1) Line 1: L004.

(2) Line 2: “PSVC FLTS ADC BC.”

f. Mixed ADC (required); no minimum; labeling:

(1) Line 1: L803 or, if entered by mailer at an ASF or BMC, L802.

(2) Line 2: “PSVC FLTS BC WKG.”

M900 Advanced Preparation Options for Flats

M910 Co-Traying and Co-Sacking Packages of Automation and Presorted Mailings

[Revise the Summary to include the new option for preparing flat-size Bound Printed Matter, to read as follows:]

Summary

M910 describes the requirements for co-traying packages of flat-size automation rate and Presorted rate First-Class Mail. It also describes the requirements for co-sacking packages of nonletter-size automation rate and Presorted rate Periodicals, packages of flat-size automation rate and Presorted rate Standard Mail, and packages of flat-size Presorted rate Bound Printed Matter qualifying for and claiming the barcoded discount and Presorted rate Bound Printed Matter (not qualifying for the barcoded discount).

* * * * *

[Add new 4.0, Bound Printed Matter, to provide preparation requirements for co-sacking flat-size Bound Printed Matter to read as follows:]

4.0 BOUND PRINTED MATTER

4.1 Basic Standards

Effective September 1, 2003, packages of flat-size pieces in a Presorted rate mailing qualifying for and claiming the barcoded discount must be co-sacked with packages of flat-size pieces from a Presorted rate mailing under the following conditions:

a. The Presorted rate pieces qualifying for and claiming the barcoded discount and the Presorted rate pieces must be part of the same mailing job and be reported on the same postage statement.

b. The Presorted rate pieces qualifying for and claiming the barcoded discount must meet the criteria for flat-size mail under C820. Pieces in the Presorted rate mailing must meet the criteria for flat-size mail under C050.

c. The Presorted rate mailing qualifying for and claiming the barcoded discount must meet the eligibility criteria in E712, the mail preparation standards in M820, the sacking requirements in 4.4, and the documentation criteria in 4.1h.

d. The Presorted rate mailing must meet the eligibility criteria in E712, the mail preparation standards in M722, the sacking requirements in 4.4, and the documentation criteria in 4.1h.

e. The rates for pieces in the Presorted rate mailing qualifying for and claiming the barcoded discount are applied based on meeting the sortation requirements in M820, and when applicable, the zone. The rates for pieces in the Presorted rate mailing are based on meeting the sortation requirements in M722, and when applicable, the zone.

f. The pieces must be marked according to M012.

g. The packages prepared from the Presorted rate mailing qualifying for the barcoded discount and the packages prepared from the Presorted rate mailing must be sorted into the same sacks as described in 4.4.

h. A complete, signed postage statement(s), using the correct USPS form or an approved facsimile, must accompany each mailing job prepared under these procedures. In addition to the applicable postage statement, standardized documentation under P012 must be submitted with each co-sacked mailing job that describes for each sack sortation level the number of pieces qualifying for the barcoded discount and the number of pieces qualifying for each applicable Presorted rate.

i. Barcoded sack labels under M032 must be used to label the sacks.

4.2 Package Preparation

Except for mail prepared under the co-packaging option in 4.3, the Presorted rate mailing qualifying for and claiming the barcoded discount must be packaged and labeled under M820, and the Presorted rate mailing must be packaged and labeled under M722.

4.3 Optional Co-Packaging Preparation

As an alternative to the basic packaging requirements in 4.2, flat-size Presorted rate pieces qualifying for and claiming the barcoded discount may be co-packaged with flat-size Presorted rate pieces, subject to M950.

4.4 Sack Preparation and Labeling

Packages of Presorted rate pieces qualifying for and claiming the barcoded discount and Presorted rate pieces prepared under 4.2 or 4.3 must be presorted together into sacks (co-sacked) using the following preparation sequence, sack size, and labeling:

a. 5-digit (required); minimum 20 addressed pieces; labeling:

(1) Line 1: city, state, and 5-digit ZIP Code destination of packages, preceded for military mail by the correct prefix under M031.

(2) Line 2: “PSVC FLTS 5D BC/NBC.”

b. 3-digit (required, except for optional packages with 3-digit ZIP Code prefixes indicated by an “N” in L002, when optional SCF sacks are prepared); minimum 20 addressed pieces; labeling:

(1) Line 1: L002, Column A.

(2) Line 2: “PSVC FLTS 3D BC/NBC.”

c. SCF (optional); minimum 20 addressed pieces; labeling:

(1) Line 1: L005.

(2) Line 2: “PSVC FLTS SCF BC/NBC.”

d. ADC (required); minimum 20 addressed pieces (use L004 to determine ZIP Codes served by each ADC); labeling:

(1) Line 1: L004.

(2) Line 2: “PSVC FLTS ADC BC/NBC.”

e. Mixed ADC (required); no minimum; labeling:

(1) Line 1: L803 or, if entered by mailer at an ASF or BMC, L802.

(2) Line 2: “PSVC FLTS BC/NBC WKG.”

* * * * *

M950 Co-Packaging Automation Rate and Presorted Rate Pieces

[Revise the Summary to include the new option for preparing flat-size Bound Printed Matter to read as follows:]

Summary

M950 describes the requirements for co-packaging flat-size automation rate and Presorted rate First-Class Mail, nonletter-size automation rate and Presorted rate Periodicals, flat-size automation rate and Presorted rate Standard Mail, and flat-size Presorted rate Bound Printed Matter qualifying for and claiming the barcoded discount and Presorted rate Bound Printed Matter (not qualifying for the barcoded discount).

* * * * *

[Add new 4.0, Bound Printed Matter, to provide co-packaging preparation requirements for flat-size Bound Printed Matter under M950 to read as follows:]

4.0 BOUND PRINTED MATTER

4.1 Basic Standards

Mailers may choose to co-package flat-size Presorted rate pieces qualifying for and claiming the barcoded discount and Presorted rate pieces as an option to the basic packaging requirements in M722 and M820, subject to the following conditions:

a. The pieces in the Presorted rate mailing qualifying for and claiming the barcoded discount and the pieces in the Presorted rate mailing must be part of the same mailing job and must be reported on the same postage statement.

b. The pieces in the mailing job must be flat-size and meet any other size and mailpiece design requirements applicable to the rate category for which they are prepared.

c. Co-packaged pieces must be co-sacked under M910.

d. A separate minimum of 300 Presorted rate pieces qualifying for and claiming the barcoded discount and a separate minimum of 300 Presorted rate pieces are required. The combined total number of pieces qualifying for and claiming the barcoded discount and the Presorted rate must be used to meet the minimum volume requirements for packages and sacks.

e. Presorted rate pieces must contain a 5-digit barcode and be co-packaged with Presorted rate pieces qualifying for and claiming the barcoded discount for the same presort destination. If this optional preparation method is used, all barcoded discount pieces and Presorted rate pieces in the same mailing job and reported on the same postage statement must be co-packaged.

f. All pieces must meet the AFSM 100 requirements in C820.

g. Unless presented using an approved manifest mailing system under P910, Presorted rate pieces qualifying for and claiming the barcoded discount and Presorted rate pieces for each presort destination must be sorted so that only one physical package for each logical presort destination includes both Presorted rate pieces qualifying for the barcoded discount (containing a ZIP+4 or delivery point barcode) and Presorted rate pieces (containing a 5-digit barcode).

4.2 Package Preparation

Preparation sequence, package size, and labeling:

a. 5-digit scheme (optional); minimum 10 addressed pieces or 10 pounds, maximum package weight 20 pounds; optional endorsement line (OEL) required.

b. 5-digit (required); minimum 10 addressed pieces or 10 pounds, maximum package weight 20 pounds; red Label D or optional endorsement line (OEL).

c. 3-digit (required); minimum 10 addressed pieces or 10 pounds, maximum package weight 20 pounds; green Label 3 or OEL.

d. ADC (required); minimum 10 addressed pieces or 10 pounds, maximum package weight 20 pounds; pink Label A or OEL.

e. Mixed ADC (required); no minimum, maximum package weight 20 pounds; tan Label MXD or OEL.

* * * * *

An appropriate amendment to 39 CFR 111 to reflect these changes will be published.

Neva R. Watson,
Attorney, Legislative.

[FR Doc. 03-7337 Filed 3-27-03; 8:45 am]

BILLING CODE 7710-12-P